COMMITTEE FOR PURCHASE FROM PEOPLE WHO ARE BLIND OR SEVERELY DISABLED

Procurement List; Additions And Deletions

AGENCY: Committee for Purchase From People Who Are Blind or Severely Disabled.

ACTION: Additions to and deletions from the Procurement List.

SUMMARY: This action adds a product and service to the Procurement List that will be furnished by nonprofit agencies employing persons who are blind or have other severe disabilities, and deletes services from the Procurement List previously furnished by such agencies.

DATES: Effective date: 8/17/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 6/5/2015 (80 FR 32096-32097) and 6/12/2015 (80 FR 33485-33489), the Committee for Purchase From People Who Are Blind or Severely Disabled published notices of proposed additions to the Procurement List.

After consideration of the material presented to it concerning capability of qualified nonprofit agencies to provide the product and service and impact of the additions on the current or most recent contractors, the Committee has determined that the product and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 8501-8506) in connection with the product and service proposed for addition to the Procurement List.

End of Certification

Accordingly, the following product and service are added to the Procurement List:

Product

NSN—Product Name: 7350-00-641-4518—Cup, Disposable, Paper, Squat-Style, Hot Food, White, 12 oz.

Mandatory Purchase for: Total Government Requirement

Mandatory Source of Supply: The Lighthouse for the Blind in New Orleans, Inc., New Orleans, LA

Contracting Activity: General Services Administration, Fort Worth, TX

Distribution: A-List

Service

Service Type: Laundry Service

Service Mandatory for: US Army, Asymmetric Warfare Training Center, Fort A.P. Hill, VA

Mandatory Source of Supply: Rappahannock Goodwill Industries, Inc., Fredericksburg, VA

Contracting Activity: Dept of the Army, W6QK ACC-APG DIR, Aberdeen Proving Ground, MD

Deletions

On 6/12/2015 (80 FR 33485-33489), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Janitorial/Custodial Service

Service Mandatory for: OCIE Warehouse, Latrobe, PA

Mandatory Source of Supply: Rehabilitation Center and Workshop, Inc., Greensburg, PA

Contracting Activity: Dept of the Army, W6QM MICC Ctr-Ft Dix (RC), Fort Dix, NJ

Service Type: Repair of Adding Machines Service

Mandatory Source of Supply: Federation Employment and Guidance Service, Inc., New York, NY

Contracting Activity: General Services Administration, FPDS Agency Coordinator, Washington, DC

Service Type: Janitorial/Custodial Service

Service Mandatory for: Bureau of Land Management, Imperial County, CA

Mandatory Source of Supply: ACHIEVE Human Services. Inc., Yuma, AZ

Contracting Activity: Office of Policy, Management, and Budget, NBC Acquisition Services Division, Washington, DC

Service Type: Medical Transcription Service

Service Mandatory for: 355th Medical Supply-F5HOSP, 4175 South Alamo, Bldg 400, Davis-Monthan AFB, AZ

Mandatory Source of Supply: National Telecommuting Institute, Inc., Boston, MA

Contracting Activity: Dept of the Air Force, FA7014 AFDW PK, Andrews AFB, MD

Service Type: Mailroom Operation Service

Service Mandatory for: U.S. Army Corps of Engineers: Los Angeles District, Los Angeles, CA

Mandatory Source of Supply: Elwyn, Inc., Aston, PA

Contracting Activity: Office of Asst Secretary for Health Except National Centers, Mid- America CASU in Kansas City, Kansas City, MO

Service Type: Mailroom Operation Service

Service Mandatory for: Customs and Border Protection Laguna, Niguel Facilities, 24000 Avila Road, Laguna Niguel, CA

Mandatory Source of Supply: Landmark Services, Inc., Santa Ana, CA

Contracting Activity: Bureau of Customs and Border Protection, National Acquisition Center, Indianapolis, IN

Service Type: Janitorial/Grounds and Related Service

Service Mandatory for: Clearfield Federal Depot: Buildings C-6, C-7, D-5 and 2, Clearfield, UT

Mandatory Source of Supply: Pioneer Adult Rehabilitation Center Davis County School District, Clearfield, UT

Contracting Activity: General Services Administration, FPDS Agency Coordinator, Washington, DC

Service Type: Janitorial/Custodial Service

Service Mandatory for: VA Greater Los Angeles Regional Healthcare System, Consolidated Mail Outpatient Pharmacy, 11301 Wilshire Boulevard, Building 222, Los Angeles, CA

Mandatory Source of Supply: Job Options, Inc., San Diego, CA

Contracting Activity: Department of Veterans Affairs, NAC, Hines, IL

Service Type: Warehousing Operations Service

Service Mandatory for: O'Brien Warehouse, U.S. Geological Survey, Menlo Park Science Center, 1020 O'Brien Drive, Menlo Park, CA

Mandatory Source of Supply: Hope Services, San Jose, CA

Contracting Activity: Geological Survey, Office of Acquisition and Grants—Sacramento, CA

Service Type: Janitorial/Custodial Service,

Service Mandatory For: VA Outreach Center, 9737 Haskell Avenue, Sepulveda, CA

Mandatory Source of Supply: Job Options, Inc., San Diego, CA

Contracting Activity: Department of Veterans Affairs, NAC, Hines, IL

Service Type: Administrative Service

Service Mandatory for: GSA, Tucson PBS: Tucson Field Office, 300 W. Congress, Tucson, AZ

Mandatory Source of Supply: J.P. Industries, Inc., Tucson, AZ

Contracting Activity: General Services Administration, FPDS Agency Coordinator, Washington, DC

Service Type: Grounds Maintenance Service

Service Mandatory for: National Park Service: Golden Gate National Recreation Area, Fort Mason, San Francisco, CA

Contracting Activity: National Park Service, PWR Regional Contracting, San Francisco, CA

Barry S. Lineback,
Director, Business Operations.

[FR Doc. 2015-17604 Filed 7-16-15; 8:45 am]

BILLING CODE 6353-01-P